FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10047 | FirstCity Bank | Stockbridge | GA | 11/01/2023
10055 | First Bank of Idaho, FSB | Ketchum | ID | 11/01/2023
10058 | Citizens Community Bank | Ridgewood | NJ | 11/01/2023
10064 | Bank of Lincolnwood | Lincolnwood | IL | 11/01/2023
10100 | Community Bank of Nevada | Las Vegas | NV | 11/01/2023
10217 | Tamalpais Bank | San Rafael | CA | 11/01/2023
10224 | Wheatland Bank | Naperville | IL | 11/01/2023
10333 | First Community Bank | Taos | NM | 11/01/2023
10363 | The Park Avenue Bank | Valdosta | GA | 11/01/2023
10396 | Bank of The Commonwealth | Norfolk | VA | 11/01/2023
10434 | Bank of The Eastern Shore | Cambridge | MD | 11/01/2023

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819.)

Federal Deposit Insurance Corporation.
Dated at Washington, DC, on November 1, 2023.
James P. Sheesley,
Assistant Executive Secretary.

[FR Doc. 2023-24453 Filed 11-3-23; 8:45 am]

BILLING CODE 6714-01-P